DEPARTMENT OF TRANSPORTATION

Office of the Secretary

Aviation Proceedings, Agreements Filed

Aviation Proceedings, Agreements filed during the week ending March 1, 2002. The following Agreements were filed with the Department of Transportation under the provisions of 49 U.S.C. Sections 412 and 414. Answers may be filed within 21 days after the filing of the application.

Docket Number: OST-2002-11696.

Date Filed: February 25, 2002.

Parties: Members of the International Air Transport Association.

Subject: PTC23 EUR-SEA 0136, dated 26 February 2002, Mail Vote 208—TC23 Europe-South East Asia, Resolution 078i, PEX Fares from Europe to South East Asia via EH, FE, Intended effective date: 1 April 2002.

Docket Number: OST-2002-11697.

Date Filed: February 26, 2002.

Parties: Members of the International Air Transport Association.

Subject: PTC12 SATL-EUR 0085 dated 1 February 2002, TC12 South Atlantic-Europe Resolutions r1-r12, Minutes—TC12 SATL-EUR 0087, dated 22 February 2002, Tables—TC12 SATL-EUR Fares 0026, dated 5 February 2002, Intended effective date: 1 April 2002.

Docket Number: OST-2002-11698.

Date Filed: February 26, 2002.

Parties: Members of the International Air Transport Association.

Subject: PTC12 MATL-EUR 0060 dated 1 February 2002, Mid Atlantic-Europe Resolutions r1-r28, PTC12 MATL-EUR 0062 dated 22 February 2002, (Technical Correction), Minutes—PTC12 MATL-EUR 0061, dated 22 February 2002, Tables—PTC12 MATL-EUR Fares 0021, dated 5 February 2002, Intended effective date: 1 April 2002.

Docket Number: OST-2002-11699.

Date Filed: February 26, 2002.

Parties: Members of the International Air Transport Association.

Subject: PTC12 NMS-ME 0161 dated 15 February 2002, North Atlantic-Middle East Resolutions r1-r27, Minutes—PTC12 NMS-ME 0160, dated 15 February 2002, Tables—PTC12 NMS-ME Fares 0089, dated 19 February 2002, Intended effective date: 1 April 2002.

Dorothy Y. Beard,
Federal Register Liaison.

[FR Doc. 02-6302 Filed 3-14-02; 8:45 am]

BILLING CODE 4910-62-P